DEPARTMENT OF STATE

[Delegation of Authority No. 480]

Delegation of Authority to the Director of the Office of U.S. Foreign Assistance Resources Under Section 7019 of the Department of State, Foreign Operations, and Related Programs Appropriation Act, 2019

By virtue of the authority vested in the Secretary of State by the laws of the United States, including the State Department Basic Authorities Act (22 U.S.C. 2651a) and section 7019(b) of the Department of State, Foreign Operations, and Related Programs Appropriations Act, 2019 (Div. F, Pub. L. 116-6), I hereby delegate to the Director of the Office of U.S. Foreign Assistance Resources, to the extent authorized by law, the authority to determine whether a deviation from the amounts specifically designated in the tables in the Joint Explanatory Statement exceeding the specified percentage is necessary to respond to significant, exigent, or unforeseen events or to address other exceptional circumstances directly related to the national security interest of the United States.

This authority may be re-delegated to the Deputy Director, Office of U.S. Foreign Assistance Resources.

The Secretary or the Deputy Secretary may exercise any function or authority delegated herein. Any reference in this delegation of authority to a statute shall be deemed to be a reference to such statute as amended from time to time and shall be deemed to apply to any provision of law that is the same or substantially the same as such statute. This delegation of authority does not repeal or otherwise affect any other delegation of authority currently in effect.

This delegation of authority will be published in the Federal Register.

Dated: December 23, 2019.
Michael R. Pompeo,
Secretary of State.

[FR Doc. 2019-28521 Filed 1-3-20; 8:45 am]

BILLING CODE 4710-10-P